DEPARTMENT OF COMMERCE

Bureau of the Census

[Docket No. 001207345-0345-01]

Service Annual Survey

AGENCY: Bureau of the Census, Commerce.

ACTION: Notice of determination

SUMMARY: In accordance with title 13, United States Code (U.S.C.), sections 182, 224, and 225, the Bureau of the Census (U.S. Census Bureau) has determined that limited financial data (revenue, expenses, and the like) for selected service industries are needed to provide a sound statistical basis for the formation of policy by various governmental agencies, and that these data also apply to a variety of public and business needs. Selected service industries include professional, scientific, and technical services; administrative and support services; healthcare and social assistance; telecommunications, publishing, broadcasting, and other information service industries; transportation services; financial services; arts, entertainment, and recreation; and so forth. These data are not publicly available from nongovernment or other governmental sources.

FOR FURTHER INFORMATION CONTACT: Ruth A. Bramblett, Chief, Current Services Branch, Service Sector Statistics Division, on (301) 457-2766.

SUPPLEMENTARY INFORMATION: The U.S. Census Bureau conducts surveys necessary to furnish current data on subjects covered by the major censuses authorized by title 13, U.S.C. The Service Annual Survey provides continuing and timely national statistical data for a period between the economic censuses. The next economic census is for the year 2002. Data collected in this survey are within the general scope, type, and character of those inquiries covered in the economic census.

The U.S. Census Bureau needs reports only from a limited sample of service sector firms in the United States. The probability of a firm's selection is based on its revenue size (estimated from payroll). We are mailing report forms to the firms covered by this survey and require their submission within thirty days after receipt.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 U.S.C., Chapter 35, the OMB approved the survey under OMB Control Number 0607-0422. Copies of the proposed forms are available upon written request to the Director, U.S. Census Bureau, Washington, DC 20233.

Based upon the foregoing, I have directed that the Service Annual Survey be conducted for the purpose of collecting these data.

Dated: December 12, 2000.
Kenneth Prewitt,
Director, Bureau of the Census.

[FR Doc. 00-32448 Filed 12-20-00; 8:45 am]

BILLING CODE 3510-07-P